DEPARTMENT OF ENERGY

Federal Energy Regulatory Commission

Notice of FERC Staff Participation at SPP Members Annual Meeting and SPP Board of Directors Meeting

October 22, 2003.

The Federal Energy Regulatory Commission hereby gives notice that members of its staff will attend the Annual Meeting of Members and the Board of Directors meeting of the Southwest Power Pool, Inc. (SPP). The staff's attendance is part of the Commission's ongoing outreach efforts.

The SPP Board of Directors meeting will be held October 28, 2003 from 1 pm to 5 pm. The SPP Annual Meeting of Members will be held on October 29, 2003 from 8 a.m. to 12 p.m. Both meetings will take place at the Peabody Hotel, Three Statehouse Plaza, Little Rock, AR 72201.

These meetings are open to the public. The meetings may discuss matters at issue in Docket No. RT04-1-000 and ER04-48-000, Southwest Power Pool, Inc.

For more information, contact Tony Ingram, Office of Markets, Tariffs and Rates, Federal Energy Regulatory Commission at (202) 502-8938 or tony.ingram@ferc.gov.

Magalie R. Salas,
Secretary.

[FR Doc. E3-00140 Filed 10-29-03; 8:45 am]

BILLING CODE 6717-01-P